GENERAL SERVICES ADMINISTRATION

[OMB Control No. 3090-0086]

General Services Administration Acquisition Regulation; Information Collection; GSA Form 1364/1364A, Proposal To Lease Space (Not Required by Regulation)

AGENCY: Office of the Chief Acquisition Officer, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve an extension of a currently approved information collection requirement regarding GSA Forms 1364/1364A, Proposal to Lease Space (Not Required by Regulation). These forms are used to obtain information about property being offered for lease to house Federal agencies. These forms provide an equitable way to compare lessor proposals. The GSA Form 1364 is used when no tenant improvements are required. The GSA Form 1364A is used when tenant improvements are required and/or when it is a National Broker Contract. The clearance currently expires on April 30, 2008.

Public comments are particularly invited on: Whether this collection of information is necessary and whether it will have practical utility; whether our estimate of the public burden of this collection of information is accurate and based on valid assumptions and methodology; and ways to enhance the quality, utility, and clarity of the information to be collected.

DATES: Submit comments on or before: May 5, 2008.

FOR FURTHER INFORMATION CONTACT: Cecelia Davis, Procurement Analyst, Contract Policy Division, at telephone (202) 219-0202 or via e-mail to cecelia.davis@gsa.gov.

ADDRESSES: Submit comments regarding this burden estimate or any other aspect of this collection of information, including suggestions for reducing this burden to the Regulatory Secretariat (VPR), General Services Administration, Room 4035, 1800 F Street, NW., Washington, DC 20405. Please cite OMB Control No. 3090-0086, GSA Form 1364/1364A, Proposal to Lease Space (Not Required by Regulation), in all correspondence.

SUPPLEMENTARY INFORMATION:

A. Purpose

The General Services Administration (GSA) has various mission responsibilities related to the acquisition and provision of real property management, and disposal of real and personal property. These mission responsibilities generate requirements that are realized through the solicitation and award of leasing contracts. Individual solicitations and resulting contracts may impose unique information collection/reporting requirements on contractors, not required by regulation, but necessary to evaluate particular program accomplishments and measure success in meeting program objectives.

B. Annual Reporting Burden

Respondents: 5016.

Responses Per Respondent: 1.

Hours Per Response: 5.0205.

Total Burden Hours: 25,183.

Obtaining Copies of Proposals: Requesters may obtain a copy of the information collection documents from the General Services Administration, Regulatory Secretariat (VPR), 1800 F Street, NW., Room 4035, Washington, DC 20405, telephone (202) 208-7312. Please cite OMB Control No. 3090-0086, GSA Form 1364/1364A, Proposal to Lease Space (Not Required by Regulation), in all correspondence.

Dated: February 29, 2008.
Al Matera,
Director, Office of Acquisition Policy.

[FR Doc. E8-4415 Filed 3-5-08; 8:45 am]

BILLING CODE 6820-61-P